DEPARTMENT OF THE INTERIOR

National Park Service

[N6472; NPS-WASO-NAGPRA-NPS0040891; PPWOCRADN0-PCU00RP14.R50000]

Notice of Intended Repatriation: University of North Dakota, Grand Forks, ND, and University of North Dakota, Alumni Association & Foundation, Grand Forks, ND

AGENCY: National Park Service, Interior.

ACTION: Notice.

SUMMARY: In accordance with the Native American Graves Protection and Repatriation Act (NAGPRA), the University of North Dakota and the University of North Dakota (UND) Alumni Association & Foundation intend to repatriate certain a cultural item that meets the definition of an object of cultural patrimony and that has a cultural affiliation with the Indian Tribes or Native Hawaiian organizations in this notice.

DATES: Repatriation of the cultural item in this notice may occur on or after September 22, 2025.

ADDRESSES: Send additional, written requests for repatriation of the cultural item in this notice to Dr. Crystal Alberts, University of North Dakota, Carnegie Hall 1st Floor, 250 Centennial Drive, Stop 8193, Grand Forks, ND 58202, email und.nagpra@und.edu.

SUPPLEMENTARY INFORMATION: This notice is published as part of the National Park Service's administrative responsibilities under NAGPRA. The determinations in this notice are the sole responsibility of the University of North Dakota and the UND Alumni Association & Foundation, and additional information on the determinations in this notice, including the results of consultation, can be found in the summary or related records. The National Park Service is not responsible for the determinations in this notice.

Abstract of Information Available

A total of one cultural item has been requested for repatriation. The item is one eagle feather headdress (33 eagle feathers on a grey felt hat crown; trimmed crown feather; light blue and grey fluffs; yellow felt bases to the feathers; headband trimmed with lazy stitch beadwork, a row of brass bells and painted rawhide rosettes and strips of fur or streamers). The headdress has not been treated with potentially hazardous substances to the best of the institutions' knowledge.

This item is part of the Victor A. Corbett Collection, gifted to the UND Alumni Association & Foundation (UNDAAF) circa February 1988. According to New York City-based appraisers consulted by UNDAAF in the 1980s, most of these items are estimated to date from the 1890s through the 1950s with most acquired by Corbett in the 1940s and 50s and appear to be from tribes in what is now North Dakota and surrounding states.

Victor A. Corbett, a dentist in Minot, ND, from 1931-1984, was reported to accept artifacts from Native Americans in the surrounding area, namely the Standing Rock Sioux Tribe and the residents of the nearby Three Affiliated Tribes of Fort Berthold Reservation. Collection records do not provide any additional information regarding the objects' provenience or provenance.

Included in this collection is the headdress described above.

Determinations

The University of North Dakota and the UND Alumni Association & Foundation has determined that:

• The one object of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural item described in this notice and the Northern Cheyenne Tribe of the Northern Cheyenne Indian Reservation, Montana.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after September 22, 2025. If competing requests for repatriation are received, the University of North Dakota and the UND Alumni Association & Foundation must determine the most appropriate requestor prior to repatriation. Requests for joint repatriation of the cultural item are considered a single request and not competing requests. The University of North Dakota and the UND Alumni Association & Foundation are responsible for sending a copy of this notice to the Indian Tribes and Native Hawaiian organizations identified in this notice and to any other consulting parties.

Authority: Native American Graves Protection and Repatriation Act, 25 U.S.C. 3004 and the implementing regulations, 43 CFR 10.9.

Dated: August 13, 2025.
Melanie O'Brien,
Manager, National NAGPRA Program.

[FR Doc. 2025-16127 Filed 8-21-25; 8:45 am]

BILLING CODE 4312-52-P